DEPARTMENT OF THE INTERIOR

National Park Service

[NPS-PWR-PWRO-19532; PPWONRADE2/PMP00EI05.YP0000]

Notice of Intent To Prepare an Environmental Impact Statement for a Wilderness Stewardship Plan, Mount Rainier National Park, Pierce and Lewis Counties, Washington

AGENCY: National Park Service, Interior.

ACTION: Notice of intent.

SUMMARY: Mount Rainier National Park is initiating process to prepare a Wilderness Stewardship Plan (WSP) for the Mount Rainier Wilderness, a 228,480-acre area surrounding and including Mount Rainier, as designated by the Washington Parks Wilderness Act of 1988. Through this process, an Environmental Impact Statement (EIS) will be prepared to analyze a range of alternatives for achieving wilderness stewardship objectives, which include providing appropriate types and levels of access for visitors and authorized users, protecting cultural and natural resources, and adhering to legally-mandated management and preservation requirements. Ninety-seven percent of Mount Rainier National Park is designated as wilderness. The Wilderness Act of 1964 (Wilderness Act) directs federal land management agencies to protect and manage wilderness so that it “generally appears to have been affected primarily by the forces of nature, with the imprint of man's work substantially unnoticeable,” and so that it “has outstanding opportunities for solitude, or a primitive and unconfined type of recreation.”

DATES: All written comments must be postmarked or transmitted not later than February 22, 2016.

ADDRESSES: Requests to be added to the project mailing list may be sent to: Randy King, Superintendent, Attn: Wilderness Stewardship Plan, Mount Rainier National Park, 55210 238th Ave., East Ashford, WA 98304-9751.

FOR FURTHER INFORMATION CONTACT: Information will be available for public review and comment at the above address, as well as online at http://parkplanning.nps.gov/morawild.

SUPPLEMENTARY INFORMATION: In January 2002, the National Park Service (NPS) issued a Record of Decision for the Mount Rainier National Park General Management Plan (GMP) which provided broad, programmatic direction for wilderness management, including the assignment of management zones that attempt to identify levels of visitor use and management guidance for areas that are heavily impacted. The GMP also stated that indicators and standards in the wilderness management plan may be revised, and day use limits may be proposed. The new WSP is intended to not only update to the park's 1992 Wilderness Management Plan, it will reflect changes that have occurred in the uses and management of the Mount Rainier Wilderness since 2002.

As an implementation level plan, the WSP/EIS will provide detailed guidance on a variety of issues including, but not limited to: day and overnight use; trail maintenance standards; wildlife and proper food storage; party size; camping and campsites; human waste management; meadow management; research activities; permitted uses; historic structures and cultural resources in wilderness; infrastructure and administrative activities within or adjacent to wilderness; and the “minimum requirement” for administration of the area as Wilderness. An “extent necessary” determination prepared in response to the Mount Rainier National Park's Commercial Services Plan (2005) will also be reviewed. This determination will identify the extent to which commercial services are necessary to fulfill the various wilderness purposes of the designated wilderness within Mount Rainier National Park, pursuant to Section 4(d)(5) of the Wilderness Act.

The WSP/EIS will reevaluate existing wilderness-related plans and guidance, such as the 1992 Wilderness Management Plan, the 2005 Fire Management Plan, and the 2010 Hazard Tree Management Plan. The WSP/EIS will also provide for more detailed management direction on provisions of the Washington Parks Wilderness Act of 1989, the NPS Management Policies (2006), and current interagency policies regarding the preservation of wilderness character as they relate to wilderness within Mount Rainier National Park.

To learn more about the issues and concerns to be addressed in the WSP/EIS, Mount Rainier National Park staff will also host four public scoping meetings at the following Washington locations: Seattle, Tacoma, Enumclaw/Buckley, and Ashford. In addition, park staff will prepare a scoping newsletter to provide additional information about Mount Rainier wilderness, the wilderness planning process, and the goals of public scoping. This newsletter will be sent to the park's general mailing list, and posted on the park planning Web site (http://www.nps.gov/mora/parkmgmt/planning.htm) and the Planning, Environment and Public Comment Web site (http://parkplanning.nps.gov/mora).

In order to ensure that your comments are considered, please submit your comments online by visiting http://parkplanning.nps.gov/morawild. Although NPS encourages commenting electronically, if you wish to submit written comments via letter, you may mail your comments or hand deliver them to the address provided above. Written comments will also be accepted during public scoping meetings. Comments in any format submitted by an individual or organization on behalf of another individual or organization will not be accepted. Before including your address, phone number, email address, or other personal identifying information in your comment, please be advised that your entire comment including your personal identifying information may be made publicly available at any time. While you can ask us in your comment to withhold your personal identifying information from public review, we cannot guarantee that we will be able to do so.

The responsible official approval of the Wilderness Stewardship Plan is the Regional Director, Pacific West Region. Subsequently the official responsible of implementation of the approved plan is the Superintendent, Mount Rainier National Park.

Dated: December 7, 2015.
Martha J. Lee,
Acting Regional Director, Pacific West Region, National Park Service.

[FR Doc. 2015-32281 Filed 12-22-15; 8:45 am]

BILLING CODE 4312-FF-P